DEPARTMENT OF HOUSING AND URBAN DEVELOPMENT

[Docket No. FR-5565-FA-01]

Announcement of Funding Awards for the HUD-Veterans Affairs Supportive Housing (HUD-VASH) Program for Fiscal Years (FY) 2010

AGENCY: Office of Public and Indian Housing, HUD.

ACTION: Announcement of funding awards.

SUMMARY: In accordance with Section 102(a)(4)(C) of the Department of Housing and Urban Development Reform Act of 1989, this announcement notifies the public of funding decisions made by the Department for funding under the FY 2010 HUD-VASH program. This announcement contains the consolidated names and addresses of those award recipients selected for funding under the Omnibus Appropriations Act, 2010.

FOR FURTHER INFORMATION CONTACT: Michael Dennis, Director, Housing Voucher Programs, Office of Public and Indian Housing, Department of Housing and Urban Development, 451 7th Street, SW., Room 4228, Washington, DC 20410, telephone number 202-402-4059. For the hearing or speech impaired, this number may be accessed via TTY (text telephone) by calling the Federal Relay Service at 800-877-8339. (Other than the “800” TTY number, these telephone numbers are not toll-free.)

SUPPLEMENTARY INFORMATION: The 2010 Appropriations Act (Pub. L. 111-117) made $75 million available for HUD-VASH, an initiative that combines HUD Housing Choice Voucher (HCV) rental assistance for homeless veterans with case management and clinical services provided by the Department of Veterans Affairs (VA) at its medical centers and in the community. The HCV program is authorized under section 8(o)(19) of the United States Housing Act of 1937. The 2010 Appropriations Act requires HUD to distribute assistance without competition, to public housing agencies (PHAs) that partner with eligible Veterans Affairs Medical Centers (VAMCs) or other entities as designated by the VA. As required by statute, selection was based on geographical need for such assistance as identified by the VA, public housing agency performance, and other factors as specified by HUD in consultation with the VA. On May 6, 2008 (73 FR 25026), HUD published in the Federal Register a notice that set forth the policies and procedures for the administration of tenant-based Section 8 HCV rental assistance under the HUD-VASH program administered by local PHAs that have partnered with local VA medical centers. The Federal Register published a correction of the May 6, 2008 notice on May 19, 2008 (73 FR 28863).

As required by the FY 2010 Appropriations Act, the VA identified VAMCs to participate in the program taking into account the population of homeless veterans needing services in the area, the number of homeless veterans recently served by the homeless programs at each VAMC, geographic distribution, and the VA's case management resources. After considering location and administrative performance of PHAs in the jurisdiction of each VAMC, HUD invited PHAs to apply for HUD-VASH vouchers. Of the $75 million appropriated in 2010, approximately $5.4 million was set-aside for project-basing of HUD-VASH vouchers. A HUD Notice, PIH 2010-40 (HA) that was issued on September 28, 2010, invited PHAs that had received a HUD-VASH allocation in FY 2008, 2009 or 2010 to apply for units from this set-aside. In accordance with Section 102(a)(4)(C) of the Department of Housing and Urban Development Reform Act of 1989 (103 Stat. 1987, 42 U.S.C. 3545), this Federal Register publication lists in Appendix A the names, addresses, number of vouchers and amounts of the 207 PHAs to which awards were made under the FY2010 HUD-VASH initiative. Appendix B lists the names, addresses, number of vouchers and amounts awarded to 29 PHAs under the HUD-VASH set-aside.

Dated: July 15, 2011.
Sandra B. Henriquez,
Assistant Secretary for Public and Indian Housing.

APPENDIX A

2010 VASH Recipients
Recipient | Address | City | State | Zip code | Amount | Vouchers
AK HSG FINANCE CORP | 4300 Boniface Parkway | Anchorage | AK | 99510 | $192,591 | 25
HSG AUTH OF BIRMINGHAM DISTRICT | 1826 3rd Avenue S | Birmingham | AL | 35233 | $242,070 | 50
MOBILE HOUSING BOARD | 151 S Claiborne Street | Mobile | AL | 36602 | $155,748 | 25
HOUSING AUTHORITY HUNTSVILLE | 200 Washington Street NE | Huntsville | AL | 35804 | $134,796 | 25
HOUSING AUTHORITY OPELIKA | 1706 Toomer Street | Opelika | AL | 36801 | $149,655 | 25
HOUSING AUTHORITY TUSCALOOSA | 2117 Jack Warner Parkway | Tuscaloosa | AL | 35401 | $88,977 | 25
HSG AUTH OF THE CITY OF NORTH LITTLE ROCK | 2201 Division | North Little Rock | AR | 72114 | $96,564 | 25
FAYETTEVILLE HOUSING AUTHORITY | #1 North School Avenue | Fayetteville | AR | 72701 | $84,393 | 25
CITY OF PHOENIX | 251 W Washington Street | Phoenix | AZ | 85003 | $818,970 | 125
CITY OF TUCSON | 310 N. Commerce Park Loop | Tucson | AZ | 85745 | $408,780 | 75
CITY OF FLAGSTAFF HOUSING AUTHORITY | 3481 Fanning Drive | Flagstaff | AZ | 86004 | $218,667 | 25
COUNTY OF COCHISE PHA | Old Bisbee High School, First Floor | Bisbee | AZ | 85603 | $127,809 | 25
SAN FRANCISCO HSG AUTH | 1815 Egbert Avenue | San Francisco | CA | 94124 | $1,274,796 | 100
COUNTY OF LOS ANGELES HOUSING AUTH | 2 S Coral Circle | Monterey Park | CA | 91755 | $2,409,561 | 225
CITY OF LOS ANGELES HSG AUTH | 2600 Wilshire Blvd | Los Angeles | CA | 90057 | $1,916,128 | 200
COUNTY OF SACRAMENTO HOUSING AUTHORITY | 801 12th Street | Sacramento | CA | 95814 | $650,637 | 75
HOUSING AUTHORITY COUNTY OF KERN | 601-24th Street | Bakersfield | CA | 93301 | $137,025 | 25
COUNTY OF SAN MATEO HSG AUTH | 264 Harbor Boulevard | Belmont | CA | 94002 | $353,751 | 25
COUNTY OF SAN BERNARDINO HSG AUTH | 715 E. Brier Dr | San Bernardino | CA | 92408 | $180,312 | 25
COUNTY OF SANTA BARBARA HSG AUTH | 815 W Ocean Avenue | Lompoc | CA | 93436 | $229,932 | 25
COUNTY OF SAN JOAQUIN HOUSING AUTH | 448 S Center Street | Stockton | CA | 95203 | $185,223 | 25
COUNTY OF RIVERSIDE HSG AUTH | 5555 Arlington Avenue | Riverside | CA | 92504 | $395,910 | 50
CITY OF OXNARD HOUSING AUTHORITY | 435 South D Street | Oxnard | CA | 93030 | $247,335 | 25
COUNTY OF MONTEREY HSG AUTH | 123 Rico Street | Salinas | CA | 93907 | $417,576 | 50
CITY OF SAN BUENA VENTURA HSG AUTHORITY | 995 Riverside Street | Ventura | CA | 93001 | $283,296 | 25
CITY OF VALLEJO | 200 Georgia St. | Vallejo | CA | 94590 | $262,134 | 25
COUNTY OF SANTA CLARA HOUSING AUTH | 505 W Julian Street | San Jose | CA | 95110 | $1,480,305 | 125
CITY OF PITTSBURG HSG AUTH | 916 Cumberland Street | Pittsburg | CA | 94565 | $539,796 | 50
SAN DIEGO HOUSING COMMISSION | 1122 Broadway Suite 300 | San Diego | CA | 92101 | $683,325 | 75
CITY OF SAN LUIS OBISPO HOUSING AUTHORITY | 487 Leff Street | San Luis Obispo | CA | 93401 | $198,654 | 25
ALAMEDA COUNTY HSG AUTH | 22941 Atherton Street | Hayward | CA | 94541 | $988,254 | 75
CITY OF LONG BEACH HSG AUTH | 521 East 4th Street | Long Beach | CA | 90802 | $881,808 | 100
CITY OF MADERA HOUSING AUTHORITY | 205 N. G Street | Madera | CA | 93637 | $324,504 | 50
SANTA CRUZ COUNTY HSG AUTH | 2931 Mission Street | Santa Cruz | CA | 95060 | $287,886 | 25
MENDOCINO COUNTY | 1076 N State Street | Ukiah | CA | 95482 | $159,177 | 25
CITY OF SANTA ROSA | 90 Santa Rosa Ave. | Santa Rosa | CA | 95402 | $711,306 | 75
COUNTY OF ORANGE HOUSING AUTHORITY | 1770 North Broadway | Santa Ana | CA | 92706 | $1,667,412 | 150
COUNTY OF SAN DIEGO | 3989 Ruffin Road | San Diego | CA | 92123 | $733,653 | 75
PLACER COUNTY HOUSING AUTHORITY | 11552 B Avenue | Auburn | CA | 95603 | $179,238 | 25
GRAND JUNCTION HSG AUTH | 1011 North Tenth Street | Grand Junction | CO | 81501 | $139,962 | 25
AURORA HOUSING AUTHORITY | 10745 E. Kentucky Avenue | Aurora | CO | 80012 | $436,272 | 50
COLORADO DEPARTMENT OF HUMAN SERVICES | 4020 South Newton St. | Denver | CO | 80236 | $525,981 | 100
COLORADO DIVISION OF HOUSING | 1313 Sherman Street | Denver | CO | 80203 | $329,616 | 50
WATERBURY HOUSING AUTHORITY | 2 Lakewood Road | Waterbury | CT | 06704 | $188,526 | 25
WEST HAVEN HOUSING AUTHORITY | 15 Glade Street | West Haven | CT | 06516 | $196,470 | 25
CONN DEPT OF SOCIAL SERVICES | 25 Sigourney Street | Hartford | CT | 06106 | $934,999 | 90
D.C HOUSING AUTHORITY | 1133 N. Capitol Street, NE | Washington | DC | 20002 | $1,205,610 | 175
WILMINGTON HOUSING AUTHORITY | 400 N. Walnut Street | Wilmington | DE | 19801 | $121,950 | 25
HOUSING AUTHORITY OF JACKSONVILLE | 1300 Broad Street | Jacksonville | FL | 32202 | $751,728 | 100
ST. PETERSBURG HOUSING AUTHORITY | 888 Executive Center Drive West | St. Petersburg | FL | 33702 | $541,050 | 125
HOUSING AUTHORITY TAMPA | 1529 W. Main Street | Tampa | FL | 33607 | $1,052,676 | 150
ORLANDO HOUSING AUTHORITY | 390 North Bumby Avenue | Orlando | FL | 32803 | $1,146,491 | 125
HOUSING AUTHORITY DAYTONA BEACH | 211 N. Ridgewood Avenue | Daytona Beach | FL | 32114 | $173,742 | 25
HOUSING AUTHORITY SARASOTA | 40 South Pineapple Ave | Sarasota | FL | 34236 | $241,566 | 25
HOUSING AUTHORITY WEST PALM BEACH GENERAL FUND | 1715 Division Avenue | West Palm Beach | FL | 33407 | $424,733 | 50
HOUSING AUTHORITY FORT LAUDERDALE CITY | 437 SW 4th Avenue | Fort Lauderdale | FL | 33315 | $489,912 | 50
CITY OF LAKELAND HOUSING AUTHORITY | 430 Hartsell Avenue | Lakeland | FL | 33815 | $168,270 | 25
NW FLORIDA REGIONAL HA | 5302 Brown Street | Graceville | FL | 32440 | $150,174 | 25
HOUSING AUTHORITY MIAMI BEACH | 200 Alton Road | Miami Beach | FL | 33139 | $357,804 | 50
ORMOND BEACH HSG AUTH | 100 New Britain Ave. | Ormond Beach | FL | 32174 | $178,833 | 25
HOUSING AUTHORITY OF THE CITY OF TITUSVILLE | 524 S. Hopkins Avenue | Titusville | FL | 32796 | $325,242 | 50
HOUSING AUTHORITY OCALA | 1629 NW 4th Street | Ocala | FL | 34475 | $152,682 | 25
HOUSING AUTHORITY FORT PIERCE | 511 Orange Avenue | Fort Pierce | FL | 34950 | $176,610 | 25
HOUSING AUTHORITY OF THE CITY OF FORT MYERS | 4224 Renaissance Preserve Way | Fort Myers | FL | 33916 | $609,146 | 90
HOUSING AUTHORITY ALACHUA COUNTY | 703 NE 1st Street | Gainesville | FL | 32601 | $402,561 | 75
HOUSING AUTHORITY TALLAHASSEE | 2940 Grady Road | Tallahassee | FL | 32312 | $207,243 | 25
CITY OF PENSACOLA SECTION 8 | 420 W. Chase Street | Pensacola | FL | 32501 | $330,858 | 75
PASCO COUNTY HOUSING AUTHORITY | 14517 7th Street | Dade City | FL | 33523 | $166,029 | 25
HOUSING AUTHORITY SAVANNAH | 1407 Wheaton Street | Savannah | GA | 31404 | $371,607 | 50
HOUSING AUTHORITY MARIETTA | 95 Cole Street NE | Marietta | GA | 30060 | $195,141 | 25
HOUSING AUTHORITY OF THE CITY OF COLLEGE PARK | 2000 W. Princeton Avenue | College Park | GA | 30337 | $205,776 | 25
GEORGIA DEPT. OF COMMUNITY AFFAIRS-RENTAL ASSIST. | 60 Executive Parkway South, NE | Atlanta | GA | 30329 | $1,073,589 | 275
GUAM HSG AND URBAN RENEWAL AUTH | 117 Bien Venida Avenue | Sinajana | GQ | 96910 | $68,600 | 10
HAWAII PUBLIC HOUSING AUTHORITY | 1002 North School Street | Honolulu | HI | 96817 | $373,762 | 40
SIOUX CITY HOUSING SERVICES DIVISION | 405 6th St.—#107 | Sioux City | IA | 51101 | $88,359 | 25
CITY OF DES MOINES MUNICIPAL HOUSING AGENCY | Park Fair Mall, Suite 101 | Des Moines | IA | 50313 | $118,797 | 25
COUNCIL BLUFFS MUNICIPAL HOUSING AGENCY | 505 S. Sixth St | Council Bluffs | IA | 51501 | $52,652 | 10
BOISE CITY HOUSING AUTHORITY | 1276 River Street | Boise | ID | 83702 | $122,535 | 25
IDAHO HOUSING AND FINANCE ASSOCIATION | 565 W. Myrtle Street | Boise | ID | 83702 | $114,414 | 25
CHICAGO HOUSING AUTHORITY | 60 E. Van Buren St | Chicago | IL | 60605 | $798,300 | 100
HOUSING AUTHORITY OF COOK COUNTY | 175 W. Jackson | Chicago | IL | 60604 | $168,057 | 25
WAUKEGAN HOUSING AUTHORITY | 215 South Martin Luther King Avenue | Waukegan | IL | 60085 | $203,805 | 25
HSG AUTHORITY OF THE COUNTY OF DEKALB | 310 N 6th Street | Dekalb | IL | 60115 | $170,418 | 25
INDIANAPOLIS HOUSING AGENCY | 1919 North Meridian Street | Indianapolis | IN | 46202 | $442,170 | 75
INDIANA HOUSING & COMMUNITY DEVELOPMENT AUTHORITY | 30 S. Meridian St. | Indianapolis | IN | 46204 | $127,047 | 25
KANSAS CITY HOUSING AUTHORITY | 1124 N 9th Street | Kansas City | KS | 66101 | $155,217 | 25
TOPEKA HOUSING AUTHORITY | 2010 SE California Avenue | Topeka | KS | 66607 | $82,452 | 25
WICHITA HOUSING AUTHORITY | 332 Riverview Street | Wichita | KS | 67203 | $69,115 | 15
LOUISVILLE HOUSING AUTHORITY | 420 S 8th Street | Louisville | KY | 40203 | $147,993 | 25
LEXINGTON FAYETTE URBAN COUNTY HOUSING AUTHORITY | 300 West New Circle Road | Lexington | KY | 40505 | $104,565 | 25
COVINGTON HOUSING AUTHORITY | 638 Madison Avenue, 5th Floor | Covington | KY | 41014 | $130,635 | 25
KENNER HOUSING AUTHORITY | 1013 31st Street | Kenner | LA | 70065 | $411,688 | 65
RAPIDES PARISH HOUSING AUTHORITY | 119 Boyce Garden Drive | Boyce | LA | 71409 | $93,831 | 25
BOSSIER PARISH POLICE JURY | 3022 Old Minden Road | Bossier City | LA | 71112 | $151,341 | 25
BOSTON HOUSING AUTHORITY | 52 Chauncy Street | Boston | MA | 02111 | $540,006 | 50
CAMBRIDGE HOUSING AUTHORITY | 675 Massachusetts Avenue | Cambridge | MA | 02139 | $372,900 | 25
NEW BEDFORD HOUSING AUTHORITY | 134 South Second Street | New Bedford | MA | 02740 | $176,166 | 25
WORCESTER HOUSING AUTHORITY | 40 Belmont Street | Worcester | MA | 01605 | $350,796 | 50
NORTHAMPTON HOUSING AUTHORITY | 49 Old South Street | Northampton | MA | 01060 | $244,770 | 50
BRAINTREE HSG AUTHORITY | 25 Roosevelt Street | Braintree | MA | 02184 | $279,105 | 25
COMM DEV PROG COMM OF MA., E.O.C.D | 100 Cambridge Street, Suite 300 | Boston | MA | 02114 | $961,023 | 100
HOUSING AUTHORITY OF BALTIMORE CITY | 417 E Fayette Street | Baltimore | MD | 21202 | $722,475 | 75
MONTGOMERY CO HOUSING AUTHORITY | 10400 Detrick Avenue | Kensington | MD | 20895 | $329,928 | 25
HSG AUTHORITY PRINCE GEORGE'S COUNTY | 9400 Peppercorn Place | Largo | MD | 20774 | $533,966 | 40
MAINE STATE HSG AUTHORITY | 353 Water Street | Augusta | ME | 04330 | $166,290 | 25
SAGINAW HOUSING COMMISSION | 1803 Norman Street | Saginaw | MI | 48601 | $124,083 | 25
LANSING HOUSING COMMISSION | 310 Seymour Avenue | Lansing | MI | 48933 | $146,862 | 25
ANN ARBOR HOUSING COMMISSION | 727 Miller Avenue | Ann Arbor | MI | 48103 | $130,074 | 25
MICHIGAN STATE HSG. DEV. AUTH | 735 E. Michigan | Lansing | MI | 48912 | $520,320 | 90
ST PAUL PHA | 555 N. Wabasha Street | Saint Paul | MN | 55102 | $198,657 | 25
MINNEAPOLIS PHA | 1001 Washington Avenue N | Minneapolis | MN | 55401 | $278,844 | 50
ST. LOUIS HOUSING AUTHORITY | 3520 Page Boulevard | Saint Louis | MO | 63106 | $141,477 | 25
HOUSING AUTHORITY OF KANSAS CITY, MISSOURI | 301 E. Armour Blvd.—#200 | Kansas City | MO | 64111 | $266,766 | 50
ST. FRANCOIS COUNTY PH AGENCY | 107 Industrial Dr. | Park Hills | MO | 63601 | $101,031 | 25
HOUSING AUTHORITY BILOXI | 330 Benachi Avenue | Biloxi | MS | 39530 | $185,457 | 25
MISS REGIONAL HOUSING AUTHORITY VIII | 10430 Three Rivers Road | Gulfport | MS | 39503 | $169,632 | 25
JACKSON HOUS AUTH | 2747 Livingston Road | Jackson | MS | 39213 | $129,729 | 25
MT DEPARTMENT OF COMMERCE | 301 South Park Ave. | Helena | MT | 59620 | $105,567 | 25
HOUSING AUTHORITY OF THE CITY OF WILMINGTON | 1524 South 16th Street | Wilmington | NC | 28402 | $146,265 | 25
HOUSING AUTHORITY OF THE CITY OF CHARLOTTE | 1301 South Boulevard | Charlotte | NC | 28203 | $327,222 | 50
HSG AUTHORITY OF THE CITY OF ASHEVILLE | 165 S French Broad Ave. | Asheville | NC | 28801 | $122,622 | 25
FAYETTEVILLE METROPOLITAN HSG AUTH | 1000 Ramsey Street | Fayetteville | NC | 28302 | $157,149 | 25
GREENSBORO HOUSING AUTHORITY | 450 N Church Street | Greensboro | NC | 27401 | $134,685 | 25
HOUSING AUTHORITY WINSTON-SALEM | 500 West Fourth Street, Suite 300 | Winston-Salem | NC | 27101 | $151,191 | 25
HOUSING AUTHORITY COUNTY OF WAKE | 100 Shannon Drive | Zebulon | NC | 27597 | $158,730 | 25
GRAND FORKS HOUSING AUTHORITY | 1405 First Avenue North | Grand Forks | ND | 58203 | $118,707 | 25
OMAHA HOUSING AUTHORITY | 540 27th St | Omaha | NE | 68105 | $196,573 | 40
HOUSING AUTHORITY OF LINCOLN | 5700 R Street | Lincoln | NE | 68505 | $92,516 | 25
MANCHESTER HOUSING AUTHORITY | 198 Hanover Street | Manchester | NH | 03104 | $98,498 | 10
NEW HAMPSHIRE HOUSING FINANCE AUTH | 32 Constitution Drive | Bedford | NH | 03110 | $208,934 | 25
CAMDEN HOUSING AUTHORITY | 2021 Watson Street | Camden | NJ | 08105 | $210,873 | 25
NEW JERSEY DEPARTMENT OF COMMUNITY AFFAIRS | 101 South Broad Street | Trenton | NJ | 08625 | $1,144,410 | 125
ALBUQUERQUE HSG AUTHORITY | 1840 University Blvd. SE | Albuquerque | NM | 87106 | $194,172 | 50
GALLUP HSG AUTHORITY | 203 Debra Drive | Gallup | NM | 87301 | $118,584 | 25
CITY OF RENO HSG AUTHORITY | 1525 E 9th Street | Reno | NV | 89512 | $316,620 | 50
SOUTHERN NEVADA REGIONAL HOUSING AUTHORITY | 340 North 11th Street | Las Vegas | NV | 89101 | $1,448,136 | 150
NEW YORK CITY HOUSING AUTHORITY | 250 Broadway | New York | NY | 10007 | $3,653,820 | 300
ALBANY HOUSING AUTHORITY | 200 South Pearl St. | Albany | NY | 12202 | $123,147 | 25
HOUSING AUTHORITY OF ROCHESTER | 675 West Main Street | Rochester | NY | 14611 | $116,721 | 25
TOWN OF AMHERST | 1195 Main St. | Buffalo | NY | 14209 | $119,937 | 25
NYS HSG TRUST FUND CORPORATION | 38-40 State Street, 4th Floor North | Albany | NY | 12207 | $1,009,224 | 100
COLUMBUS METRO HOUSING AUTHORITY | 880 East 11th Ave | Columbus | OH | 43211 | $129,045 | 25
CUYAHOGA MHA | 1441 W 25th Street | Cleveland | OH | 44113 | $431,982 | 75
CINCINNATI METROPOLITAN HSG. AUTH | 16 W Central Parkway | Cincinnati | OH | 45202 | $106,146 | 25
DAYTON METROPOLITAN HOUSING AUTHORITY | 400 Wayne Ave | Dayton | OH | 45401 | $97,080 | 25
LUCAS MHA | 435 Nebraska Avenue | Toledo | OH | 43604 | $144,045 | 25
AKRON MHA | 100 W Cedar Street | Akron | OH | 44307 | $142,422 | 25
CHILLICOTHE MET HA | 4th St. | Chillicothe | OH | 45601 | $129,180 | 25
OKLAHOMA CITY HOUSING AUTHORITY | 1700 NE 4th St | Oklahoma City | OK | 73117 | $79,974 | 25
OKLAHOMA HOUSING FINANCE AGENCY | 100 NW 63rd St | Oklahoma City, | OK | 73116 | $124,857 | 25
HOUSING AUTHORITY OF PORTLAND | 135 SW Ash Street | Portland | OR | 97204 | $580,021 | 90
HOUSING AUTHORITY OF DOUGLAS COUNTY | 902 West Stanton Street | Roseburg | OR | 97470 | $67,566 | 25
HA & COMMUNITY SERVICES AGENCY OF LANE COUNTY | 177 Day Island Road | Eugene | OR | 97401 | $132,189 | 25
HOUSING AUTHORITY OF THE CITY OF SALEM | 360 Church Street SE | Salem | OR | 97301 | $134,544 | 25
KLAMATH HOUSING AUTHORITY | 1445 Avalon Street | Klamath Falls | OR | 97603 | $113,394 | 25
COOS-CURRY HOUSING AUTHORITY | 1700 Monroe Street | North Bend | OR | 97459 | $96,879 | 25
HOUSING AUTHORITY OF WASHINGTON COUNTY | 111 NE Lincoln Street | Hillsboro | OR | 97124 | $178,596 | 25
CENTRAL OREGON REGIONAL HOUSING AUTHORITY | 405 SW Sixth Street | Redmond | OR | 97756 | $154,821 | 25
PHILADELPHIA HOUSING AUTHORITY | 12 S 23rd Street | Philadelphia | PA | 19103 | $492,858 | 75
SCRANTON HOUSING AUTHORITY | 400 Adams Avenue | Scranton | PA | 18510 | $106,062 | 25
ALLEGHENY COUNTY HOUSING AUTHORITY | 625 Stanwix Street | Pittsburgh | PA | 15222 | $200,154 | 50
ERIE CITY HOUSING AUTHORITY | 606 Holland Street | Erie | PA | 16501 | $107,346 | 25
DELAWARE COUNTY HOUSING AUTHORITY | 1855 Constitution Avenue | Woodlyn | PA | 19094 | $199,401 | 25
HOUSING AUTH CO OF LAWRENCE | 481 Neshannock Avenue | New Castle | PA | 16101 | $95,511 | 25
LEBANON COUNTY HOUSING AUTHORITY | PO Box 420 | Lebanon | PA | 17042 | $79,473 | 25
PROVIDENCE HOUSING AUTHORITY | 100 Broad Street | Providence | RI | 02903 | $127,080 | 25
PUERTO RICO DEPT OF HOUSING | 606 Ave. Barbosa | San Juan | RQ | 00928 | $132,924 | 25
HOUSING AUTHORITY OF CHARLESTON | 550 Meeting St | Charleston | SC | 29403 | $172,398 | 25
HOUSING AUTHORITY GREENVILLE | 511 Augusta St. | Greenville | SC | 29603 | $135,579 | 25
HOUSING AUTHORITY OF MYRTLE BEACH | 605 10th Avenue N | Myrtle Beach | SC | 29577 | $141,810 | 25
SIOUX FALLS HOUSING & REDEVELOPMENT COMMISSION | 630 S Minnesota Avenue | Sioux Falls | SD | 57104 | $192,281 | 30
MEMPHIS HOUSING AUTHORITY | 700 Adams Avenue | Memphis | TN | 38105 | $257,574 | 50
METROPOLITAN DEVELOPMNT & HSG AGNCY | 701 S 6th Street | Nashville | TN | 37206 | $374,202 | 75
HOUSING AUTHORITY JACKSON | 125 Preston Street | Jackson | TN | 38301 | $73,132 | 15
HOUSING AUTHORITY MURFREESBORO | 415 North Maple Street | Murfreesboro | TN | 37130 | $138,090 | 25
AUSTIN HOUSING AUTHORITY | 1124 S Ih 35 | Austin | TX | 78704 | $453,738 | 50
HOUSING AUTHORITY OF EL PASO | 5300 E Paisano Drive | El Paso | TX | 79905 | $111,576 | 25
FORT WORTH HOUSING AUTHORITY | 1201 E 13th Street | Fort Worth | TX | 76102 | $327,048 | 50
SAN ANTONIO HOUSING AUTHORITY | 818 S Flores Street | San Antonio | TX | 78204 | $385,872 | 100
CORPUS CHRISTI HOUSING AUTHORITY | 3701 Ayers Street | Corpus Christi | TX | 78415 | $186,186 | 25
HOUSING AUTHORITY OF DALLAS | 3939 N. Hampton Road | Dallas | TX | 75212 | $636,768 | 100
HOUSING AUTHORITY OF WACO | 4400 Cobbs Drive | Waco | TX | 76710 | $126,027 | 25
HARLINGEN HSG AUTHORITY | 219 East Jackson Street | Harlingen | TX | 78550 | $128,385 | 25
HARRIS COUNTY HSG AUTHORITY | 8933 Interchange | Houston | TX | 77054 | $664,677 | 75
CENTRAL TEXAS COUNCIL OF GOVTS | 2180 North Main | Belton | TX | 76513 | $142,755 | 25
HOUSING AUTHORITY OF CITY OF OGDEN | 1100 Grant Avenue | Ogden | UT | 84404 | $143,493 | 25
HOUSING AUTHORITY OF THE COUNTY OF SALT LAKE | 3595 S Main Street | Salt Lake City | UT | 84115 | $303,178 | 40
NORFOLK REDEVELOPMENT & HOUSING AUTHORITY | 201 Granby Street | Norfolk | VA | 23510 | $230,499 | 25
ROANOKE REDEVELOPMENT & HOUSING AUTHORITY | 2624 Salem Turnpike NW | Roanoke | VA | 24017 | $72,609 | 25
CITY OF VIRGINIA BEACH | 2424 Courthouse Dr. | Virginia Beach | VA | 23456 | $196,398 | 25
VIRGINIA HOUSING DEVELOPMENT AUTHORITY | 601 South Belvidere Street | Richmond | VA | 23220 | $357,558 | 50
VERMONT STATE HOUSING AUTHORITY | 1 Prospect Street | Montpelier | VT | 05602 | $156,744 | 25
SEATTLE HOUSING AUTHORITY | 120 Sixth Avenue North | Seattle | WA | 98109 | $441,022 | 60
KING COUNTY HOUSING AUTHORITY | 600 Andover Park West | Seattle | WA | 98188 | $521,610 | 60
HOUSING AUTHORITY OF THE CITY OF TACOMA | 902 S L Street | Tacoma | WA | 98405 | $151,173 | 25
HOUSING AUTHORITY CITY OF LONGVIEW | 1207 Commerce Avenue | Longview | WA | 98632 | $131,901 | 25
BELLINGHAM HOUSING AUTHORITY | 208 Unity Street | Bellingham | WA | 98225 | $163,080 | 25
HOUSING AUTHORITY OF SNOHOMISH COUNTY | 12525 4th Avenue West | Everett | WA | 98204 | $233,031 | 25
HOUSING AUTHORITY OF THE CITY OF YAKIMA | 810 N 6th Avenue | Yakima | WA | 98902 | $125,364 | 25
PIERCE COUNTY HOUSING AUTHORITY | 603 Polk Street S | Tacoma | WA | 98444 | $179,013 | 25
SPOKANE HOUSING AUTHORITY | 55 W Mission Avenue | Spokane | WA | 99201 | $112,116 | 25
HOUSING AUTHORITY OF THE CITY OF WALLA WALLA | 501 Cayuse Street | Walla Walla | WA | 99362 | $206,946 | 50
HA OF THE CITY OF MILWAUKEE | 809 North Broadway | Milwaukee | WI | 53202 | $107,877 | 25
APPLETON HOUSING AUTHORITY | 925 W.northland | Appleton | WI | 54914 | $198,372 | 50
THE CITY OF FAIRMONT HSG AUTH | 103 12th Street | Fairmont | WV | 26555 | $102,828 | 20
HOUSING AUTHORITY CITY OF KEYSER | 470 Virginia Street | Keyser | WV | 26726 | $70,440 | 20
HOUSING AUTHORITY OF THE CITY OF CHEYENNE | 3304 Sheridan Street | Cheyenne | WY | 82009 | $104,595 | 25

APPENDIX B

2010 VASH Set-Aside Recipients
Recipient | Address | City | State | Zip Code | Amount | Vouchers
CITY OF PHOENIX HOUSING DEPARTMENT | 251 W Washington Street | Phoenix | AZ | 85003 | $86,437 | 10
HOUSING AUTHORITY OF THE COUNTY OF LOS ANGELES | 2 S Coral Circle | Monterey Park | CA | 91755 | 527,628 | 50
HOUSING AUTHORITY OF THE CITY OF LOS ANGELES | 2600 Wilshire Blvd | Los Angeles | CA | 90057 | 517,650 | 50
HOUSING AUTHORITY OF THE CITY AND COUNTY OF DENVER | Box 40305, Mile High Station | Denver | CO | 80203 | 135,977 | 15
GRAND JUNCTION HOUSING AUTHORITY | 1011 North Tenth Street | Grand Junction | CO | 81501 | 83,356 | 15
COLORADO DIVISION OF HOUSING | 1313 Sherman Street | Denver | CO | 80203 | 107,000 | 16
CONNECTICUT DEPARTMENT OF SOCIAL SERVICES | 25 Sigourney Street | Hartford | CT | 06106 | 150,534 | 15
ALACHUA COUNTY HOUSING AUTHORITY | 703 NE First Street | Gainesville | FL | 32601 | 163,134 | 25
INDIANAPOLIS HOUSING AGENCY | 1919 North Meridian Street | Indianapolis | IN | 46202 | 233,995 | 35
DEPARTMENT OF HOUSING & COMMUNITY DEVELOPMENT | 100 Cambridge Street, Suite 300 | Boston | MA | 02114 | 338,400 | 32
BALTIMORE COUNTY, MD | Drum Castle Government Center | Baltimore | MD | 21212 | 420,846 | 50
ANN ARBOR HOUSING COMMISSION | 727 Miller Avenue | Ann Arbor | MI | 48103 | 36,100 | 5
HOUSING AUTHORITY OF THE CITY OF GREENSBORO | PO Box 21287 | Greensboro | NC | 27401 | 51,163 | 10
MANCHESTER HOUSING & REDEVELOPMENT AUTHORITY | 198 Hanover Street | Manchester | NH | 03104 | 78,600 | 9
NEW HAMPSHIRE HOUSING FINANCE AGENCY | PO Box 5087 | Manchester | NH | 03110 | 175,334 | 21
STATE OF NJ DEPT. OF COMM. AFFAIRS | 101 South Broad Street | Trenton | NJ | 08625 | 464,718 | 50
ROCHESTER HOUSING AUTHORITY | 675 West Main St. | Rochester | NY | 14611 | 60,733 | 12
HOUSING AUTHORITY OF THE CITY OF SALEM | 360 Church Street SE | Salem | OR | 97301 | 69,531 | 13
AUSTIN HOUSING AUTHORITY | PO Box 6159 | Austin | TX | 78704 | 199,179 | 25
HOUSTON HOUSING AUTHORITY | 2640 Fountain View | Houston | TX | 77057 | 358,242 | 50
SAN ANTONIO HOUSING AUTHORITY | PO Drawer 1300 | San Antonio | TX | 78204 | 157,476 | 25
HOUSING AUTHORITY OF THE CITY OF OGDEN | 1100 Grant Avenue | Ogden | UT | 84404 | 29,162 | 5
RICHMOND REDEVELOPMENT & HOUSING AUTHORITY | PO Box 26887 | Richmond | VA | 23220 | 315,173 | 40
FAIRFAX COUNTY REDEVELOPMENT & HSG AUTHORITY | 3700 Pender Drive | Fairfax | VA | 22030 | 37,693 | 3
HA OF KING COUNTY | 600 Andover Park West | Seattle | WA | 98188 | 92,178 | 10
HA CITY OF TACOMA | 902 S L Street | Tacoma | WA | 98405 | 171,216 | 20
HOUSING AUTHORITY OF THE CITY OF VANCOUVER | 2500 Main Street | Vancouver | WA | 98660 | 176,040 | 30
HOUSING AUTHORITY CITY OF BELLINGHAM | PO Box 9701 | Bellingham | WA | 98225 | 63,919 | 10
HA CITY OF SPOKANE | 55 W Mission Avenue | Spokane | WA | 99201 | 126,636 | 25

[FR Doc. 2011-19117 Filed 7-27-11; 8:45 am]

BILLING CODE 4210-67-P